DEPARTMENT OF AGRICULTURE

Agricultural Marketing Service

[Doc No. AMS-FGIS-20-0061]

Mycotoxin Test Kit Design Specifications and Performance Criteria

AGENCY: Agricultural Marketing Service, USDA.

ACTION: Notice; reopening of comment period.

SUMMARY: Notice is hereby given that the comment period is reopened for the notice that was published in the Federal Register on December 18, 2020. The publication invited comments on the changes that the Agricultural Marketing Service (AMS) proposes to its existing mycotoxin test kit criteria.

DATES: Comments are due by March 24, 2021.

ADDRESSES: To submit comments: Go to Regulations.gov (http://www.regulations.gov). Instructions for submitting and reading comments are detailed on the site. Interested persons are invited to submit written comments concerning this notice. All comments must be submitted through the Federal e-rulemaking portal at http://www.regulations.gov and should reference the document number and the date and page number of this issue of the Federal Register. All comments submitted in response to this notice will be included in the record and will be made available to the public. Please be advised that the identity of the individuals or entities submitting comments will be made public on the internet at the address provided above.

FOR FURTHER INFORMATION CONTACT: Thomas A. Weber, Analytical Chemistry Branch Chief, Technology and Science Division, Federal Grain Inspection Service, AMS, USDA; telephone (816) 891-0449; or email Thomas.A.Weber@usda.gov.

SUPPLEMENTARY INFORMATION: A notice seeking comments on proposed changes to mycotoxin test kit criteria was published in the Federal Register at 85 FR 82427 on December 18, 2020. The original 30-day comment period provided in the notice closed on January 19, 2021. As of January 11, 2020, four stakeholders submitted comments requesting an extension of the comment period. AMS is reopening the comment period to ensure that interested persons have sufficient time to review and comment on the notice. The comment period is reopened for 30 days from the date of publication of this notice.

Authority: 7 U.S.C. 71-87k, 7 U.S.C. 1621-1627.

Bruce Summers,
Administrator, Agricultural Marketing Service.

[FR Doc. 2021-03469 Filed 2-19-21; 8:45 am]

BILLING CODE P